DEPARTMENT OF LABOR

Office of the Secretary

Submission for OMB Review: Comment Request

December 20, 2006.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. A copy of this ICR, with applicable supporting documentation, may be obtained at http://www.reginfo.gov/public/do/PRAMain, or contact Ira Mills on 202-693-4122 (this is not a toll-free number) or E-Mail: Mills.Ira@dol.gov.

Comments should be sent to Office of Information and Regulatory Affairs, Attn: OMB Desk Officer for U.S. Department of Labor/Employment and Training Administration (ETA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration.

Type of Review: New.

Title: Survey of Registered Apprenticeship Sponsors.

OMB Number: 1205—0NEW.

Frequency: One time.

Affected Public: Business or other for-profit.

Type of Response: Reporting.

Respondent Hour Burden for the Apprenticeship Evaluation
Activity | Total respondents | Frequency | Average minutes per response | Burden hours
Survey of Sponsors | 1,144 | One time | 18.5 | 353
Site Visits:
State apprenticeship directors and staff | 19 | One time | 360 | 114
Providers of related education (community college and training program administrators) | 29 | One time | 60 | 29
One-stop Center Directors and Staff | 14 | One time | 60 | 14
Sponsors | 37 | One time | 60 | 37
Other: WIB chairs and staff | 15 | One time | 60 | 15
Apprentices | 80 | One time | 45 | 60
Totals | 1,338 |  |  | 622

Total Annualized Capital/Startup Costs: 0.

Total Annual Costs (operating/maintaining systems or purchasing services): 0.

Description: This is a one-time information collection consisting of a survey of sponsors of registered apprenticeship programs, using a stratified random sample with over sampling of sponsors in high growth industries who have recently begun apprenticeship programs. The survey will be conducted by phone or Internet at the respondent's choice. The findings from the survey will fill a gap in knowledge by providing, for the first time, systematic information on the views of sponsors' views re: Costs and benefits and on interactions with other parts of the workforce development system.

Ira L. Mills,
Departmental Clearance Officer/Team Leader.

[FR Doc. E6-22056 Filed 12-22-06; 8:45 am]

BILLING CODE 4510-30-P